NUCLEAR REGULATORY COMMISSION

10 CFR Part 73

[NRC-2019-0128]

RIN 3150-AK34

Miscellaneous Corrections; Correction

AGENCY: Nuclear Regulatory Commission

ACTION: Final rule; correction.

SUMMARY: The U.S. Nuclear Regulatory Commission (NRC) is correcting a rule that was published in the Federal Register on November 18, 2019, regarding miscellaneous corrections to NRC regulations. The action is necessary to insert language that was inadvertently omitted from the regulatory text.

DATES: The correction is effective on December 18, 2019.

ADDRESSES: Please refer to Docket ID NRC-2019-0128 when contacting the NRC about the availability of information for this action. You may obtain publicly-available information related to this action by any of the following methods:

• Federal Rulemaking Website: Go to https://www.regulations.gov and search for Docket ID NRC-2019-0128. Address questions about NRC dockets to Carol Gallagher; telephone: 301-415-3463; email: Carol.Gallagher@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jill Shepherd, Office of Nuclear Material Safety and Safeguards, U.S. Nuclear Regulatory Commission, Washington, DC 20555-0001; telephone: 301-415-1230; email: Jill.Shepherd@nrc.gov.

SUPPLEMENTARY INFORMATION: Effective December 18, 2019, in FR Rule Doc. No. 2019-25021 at 84 FR 63565 in the issue of November 18, 2016, on page 63568, in the third column, in amendatory instruction 25 amending § 73.72, paragraph (a)(1) is corrected to read as follows:

§ 73.72 [Corrected]

(a) * * *

(1) Notify in writing by mail addressed to ATTN: Document Control Desk, Director, Office of Nuclear Security and Incident Response, U.S. Nuclear Regulatory Commission, Washington, DC 20555, or by using any appropriate method listed in § 73.4 of this part. Classified notifications shall be sent to the NRC headquarters classified mailing address listed in appendix A to this part.

Dated at Rockville, Maryland, this 5th day of December 2019.
For the Nuclear Regulatory Commission.
Cindy K. Bladey,
Chief, Regulatory Analysis and Rulemaking Support Branch, Office of Nuclear Material Safety and Safeguards.

[FR Doc. 2019-26651 Filed 12-10-19; 8:45 am]

BILLING CODE 7590-01-P